DEPARTMENT OF LABOR

Employment and Training Administration

[TA-W-81,880: TA-A-81,880A]

RG Steel Wheeling, LLC, Wheeling Office, A Division Of RG Steel, LLC, Including On-Site Leased Workers From Pro Unlimited and Green Energy Initiatives LLC, Including Workers Whose Wages Were Reported Through Severstal Wheeling, Wheeling, WV: Mountain State Carbon, LLC, Including Workers Whose Wages Were Reported Through RG Steel Wheeling, Llc and Severstal Wheeling Follansbee, WV; Amended Certification Regarding Eligibility To Apply for Worker Adjustment Assistance

In accordance with Section 223 of the Trade Act of 1974, as amended (“Act”), 19 U.S.C. 2273, the Department of Labor issued a Certification of Eligibility to Apply for Worker Adjustment Assistance on October 2, 2012, applicable to workers of RG Steel Wheeling, LLC, Wheeling Office, a division of RG Steel, LLC, including on-site leased workers from Pro Unlimited and Green Energy Initiatives, LLC, Wheeling, West Virginia (TA-W-81,880) and Mountain State Carbon, LLC, including workers whose wages were reported through RG Steel Wheeling, LLC, Follansbee, West Virginia (TA-W-81,880A). The Department's notice of determination was published in the Federal Register on October 19, 2012 (77 FR 64357).

At the request of a state workforce office, the Department reviewed the certification for workers of the subject firm. The workers are engaged in activities related to the production of coke.

New information shows that some workers separated from employment at the Wheeling Office (TA-W-81,880) and Mountain State Carbon (TA-W-81,880A) had their wages reported through a separate unemployment insurance (UI) tax account under the name Severstal Wheeling, a former owner of the workers' firms.

The intent of the Department's certification is to include all workers of the subject firm who meet the worker group certification criteria under Section 222(a) of the Act, 19 U.S.C. 2272(a).

Accordingly, the Department is amending this certification to properly reflect this matter. The amended notice applicable to TA-W-81,880 and TA-W-81,880A is hereby issued as follows:

All workers of RG Steel Wheeling, LLC, Wheeling Office, a division of RG Steel, LLC, including on-site leased workers from Pro Unlimited and Green Energy Initiatives, LLC, Wheeling, West Virginia (TA-W-81,880) and Mountain State Carbon, LLC, including workers whose wages were reported through RG Steel Wheeling, LLC, Follansbee, West Virginia (TA-W-81,880A), including workers, at both firms, whose unemployment insurance (UI) wages are reported through Severstal Wheeling who became totally or partially separated from who became totally or partially separated from employment on or after August 7, 2011 through October 2, 2014, and all workers in the group threatened with total or partial separation from employment on date of certification through two years from the date of certification, are eligible to apply for adjustment assistance under Chapter 2 of Title II of the Trade Act of 1974, as amended.

Signed in Washington, DC, this 2nd day of November, 2012.
Elliott S. Kushner
Certifying Officer, Office of Trade Adjustment Assistance.

[FR Doc. 2012-28614 Filed 11-23-12; 8:45 am]

BILLING CODE 4510-FN-P